INTERNATIONAL TRADE COMMISSION

[Investigation No. 337-TA-597]

In the Matter of Certain Bassinet Products; Notice of a Commission Determination Not To Review an Initial Determination Terminating the Investigation on the Basis of a Consent Order Stipulation and Consent Order; Issuance of Consent Order

AGENCY: U.S. International Trade Commission.

ACTION: Notice.

SUMMARY: Notice is hereby given that the U.S. International Trade Commission has determined not to review an initial determination (“ID”) (Order No. 25) of the presiding administrative law judge (“ALJ”) in the above-captioned investigation terminating the investigation on the basis of a consent order stipulation and consent order.

FOR FURTHER INFORMATION CONTACT: Eric Frahm, Office of the General Counsel, U.S. International Trade Commission, 500 E Street, SW., Washington, DC 20436, telephone (202) 205-3107. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 14, 2007, based on a complaint filed by Arm's Reach Concepts, Inc., of Malibu, California (“Arm's Reach”). 72 Federal Register 11902 (Mar. 14, 2007). The complaint alleged violations of section 337 in the importation into the United States, the sale for importation, and the sale within the United States after importation of certain bassinet products by reason of infringement of one or more of claims 1-2, 5, 10-14, 16, and 18-19 of U.S. Patent No. 6,931,677 and claims 1-2, 10, 15-16, 24, 29-31, and 48-49 of U.S. Patent No. Re. 39,136. The complaint further alleged that an industry in the United States exists as required by subsection (a)(2) of section 337. The complainant requested that the Commission issue a limited exclusion order and a cease and desist order. The Commission named Simplicity, Inc., of Reading, Pennsylvania (“Simplicity”), as the sole respondent.

On January 29, 2008, Arm's Reach and Simplicity filed a joint motion pursuant to Commission Rule 210.21(c) to terminate the investigation as to Simplicity on the basis of a consent order stipulation and consent order. The Commission investigative attorney supported the motion.

On February 15, 2008, the ALJ issued an ID (Order No. 25) granting the parties' motion, terminating the investigation as to Simplicity, and terminating the investigation in its entirety on the basis of a consent order stipulation and consent order. No petitions for review of the ID were filed, and the Commission has determined not to review the ID.

This action is taken under the authority of section 337 of the Tariff Act of 1930, as amended, 19 U.S.C. 1337, and Commission rules 210.21, 210.42, 19 CFR 210.21, 210.42.

By order of the Commission.
Issued: March 7, 2008.
Marilyn R. Abbott,
Secretary to the Commission.

[FR Doc. E8-4955 Filed 3-12-08; 8:45 am]

BILLING CODE 7020-02-P